DEPARTMENT OF TRANSPORTATION

Federal Railroad Administration

[Docket Number FRA-2022-0077]

Notice of Application for Approval of Discontinuance or Modification of a Railroad Signal System

Under part 235 of title 49 Code of Federal Regulations (CFR) and 49 U.S.C. 20502(a), this document provides the public notice that on July 22, 2022,¹ Kansas City Southern (KCS) petitioned the Federal Railroad Administration (FRA) seeking approval to discontinue or modify a signal system. FRA assigned the petition Docket Number FRA-2022-0077.

¹ On October 13, 2022, KCS submitted a revised petition. Both the original and revised petitions are available in the docket (https://www.regulations.gov/document/FRA-2022-0077-0001).

Specifically, KCS requests permission to decrease the limits of a centralized traffic control (CTC) block signal system, from mile post (MP) 9.9 to MP 11.2, near Laredo, Texas, as part of its Serrano Yard expansion project. This permanent change would include removing control point (CP) 10 and changing 1.3 miles of current CTC territory to yard limits at restricted speed. KCS requests the change to expand capacity for building trains in the Serrano Yard. In support of its petition, KCS states that the change will minimally affect the safety of operations because the maximum authorized speed in the area will decrease from 59 miles per hour to restricted speed yard limits. KCS also notes that this proposed change would bring the CTC/yard limits “in coincidence between the main track and switching lead at CP 11, reducing the risk of confusion for on track equipment.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by January 3, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-23973 Filed 11-2-22; 8:45 am]

BILLING CODE 4910-06-P